DEPARTMENT OF DEFENSE

Department of the Army, Corps of Engineers

Intent To Prepare a Draft Environmental Impact Statement for the Proposed Ala Wai Canal Project, Honolulu, Oahu, HI

AGENCY: Department of the Army, U.S. Army Corps of Engineers (USACE), DoD.

ACTION: Notice of intent.

SUMMARY: Pursuant to Section 102(2)(C) of the National Environmental Policy Act (NEPA) of 1969, the U.S. Army Corps of Engineers (USACE) and the State of Hawaii Department of Land and Natural Resources (DLNR) gives notice that an Environmental Impact Statement is being prepared for the Ala Wai Canal Project, City and County of Honolulu, HI. This effort is a multi-purpose project being proposed under Section 209 of the Flood Control Act of 1962 (Pub. L. 87-874) and will incorporate both flood hazard reduction and ecosystem restoration components into a single, comprehensive strategy.

DATES: In order to be considered in the Draft EIS (DEIS), comments and suggestions should be received no later than 30 days after publication of this notice in the Federal Register .

ADDRESSES: Send written comments to U.S. Army Corps of Engineers, Honolulu District, ATTN: Cindy S. Barger, Project Manager, Civil and Public Works Branch (CEPOH-PP-C), Room 311, Building 230, Fort Shafter, HI 96858-5440.

FOR FURTHER INFORMATION CONTACT: Questions or comments concerning the proposed action should be addressed to Ms. Cindy S. Barger, Project Manager, U.S. Army Corps of Engineers, Honolulu District, Civil and Public Works Branch, Building 230, Fort Shafter, HI 96858-5440, Telephone: (808) 438-6940, E-mail: Cindy.S.Barger@poh01.usace.army.mil, or Mr. Carty Chang, Project Planning and Management Branch Chief, State of Hawaii Department of Land and Natural Resources, Engineering Division, 1151 Punchbowl Street, Room 221, Honolulu, HI 96813, telephone (808) 587-0227, E-mail: carty.s.chang@hawaii.gov.

SUPPLEMENTARY INFORMATION: A preliminary assessment of this federally funded action indicates that the project may cause significant impacts on the environment. As a result, it has been determined that the preparation and review of an Environmental Impact Statement (EIS) is needed for this project. The EIS and Feasibility Study for the Ala Wai Canal Project are being conducted concurrently. The EIS will evaluate potential impacts to the natural, physical, and human environment as a result of implementing any of the proposed alternatives that are developed by this project.

This project will be implemented under Section 209 of the Flood Control Act of 1962 (Pub. L. 87-874), for the purpose of flood mitigation and ecosystem restoration in the Ala Wai Canal Watershed, which consists of the sub-watersheds of Makiki, Manoa, Palolo, and Waikiki. The USACE will work with the affected community and the sponsoring local organization, the State of Hawaii Department of Land and Natural Resources, to develop an acceptable plan to address the flood and ecosystem problems.

The 11,069-acre Ala Wai Canal Watershed is located in the southern portion of the island of Oahu. The Watershed is highly urbanized, with approximately 1,746 structures within the designated 100-year floodplain. There is a high potential for massive flood damage to the densely populated and economically critical area of Waikiki and the adjacent neighborhoods of McCully and Moiliili. Additionally, flooding frequently occurs in lower Makiki and recently in the central Manoa Valley, causing damages to businesses, homes, and academic facilities. There is also significant environmental degradation of the streams and waterways, including heavy sedimentation, poor water quality, lack of habitat for native species, and a prevalence of alien species.

Goals of the Ala Wai Canal Project are to (1) Protect the entire Ala Wai Canal Watershed from the 100-year flood event, (2) improve the migratory pathway for native amphidromous species, (3) reduce sediment buildup in the streams and Ala Wai Canal, (4) enhance the physical quality of existing aquatic habitat for native species, and (5) improve water quality. Anticipated significant issues identified to date and to be addressed in the EIS include: (1) Impacts on flooding, (2) impacts on stream hydraulics, (3) impacts on fish and wildlife resources and habitats, (4) impacts on recreation and recreational facilities, and (5) other impacts identified by the Public, agencies, or USACE studies.

A full range of possible programs and actions will be considered in order to meet the project goals. Currently under consideration are dredging, detention basins, flood walls, debris basins and other debris management actions, bridge modification, flood-proofing structures within the flood plain, diversion of flood waters, flood warning systems, widening of channels, acquisition of properties within the floodplain, maintenance easements, and a drainage district. Ecosystem restoration measures currently under consideration include low-flow channels, creating more natural stream channels, constructed wetlands, trash separators, sediment interceptors, daylighting the stream, increasing or decreasing shade as necessary, reducing the pig population, and stream bank stabilization. As hydrologic, hydraulic, and biological analyses are performed and stakeholder consultations are conducted, additional concepts may be developed.

Evaluation of all of the alternatives will take into account minimization of adverse impacts to social resources, economics, aesthetics, recreation, historic and cultural resources, and native species habitat. Flood hazard reduction alternatives will additionally take into account a cost-benefit analysis and ability to complement ecosystem restoration measures. Evaluation of the ecosystem restoration alternatives will be based on the areas of habitat they create, improve, or provide access to, as well as their ability to complement flood hazard reduction measures.

A DEIS will be prepared and circulated for review by agencies and the public. The USACE and DLNR invite participation and consultation of agencies and individuals that have special expertise, legal jurisdiction, or interest in the preparation of the DEIS. The DLNR will be issuing a state-level Environmental Impact Statement Preparation Notice (EISPN) pursuant to Hawaii Revised Statutes (HRS) Chapter 343. All written and verbal comments received in response to this Notice of Intent and the State EISPN will be considered when determining the scope of the EIS. To the extent practicable, NEPA and HRS 343 requirements will be coordinated in the preparation of the EIS document.

A public scoping meeting will be held on Tuesday, October 21, 2008 at the Washington Middle School Cafeteria at 1633 South King Street, Honolulu, HI 96826, from 6:30 p.m. until 8:30 p.m. to determine the scope of analysis of the proposed action. The scoping meeting will also be announced in local media. Interested parties are encouraged to express their views during the scoping process and throughout the development of the alternatives and EIS. To be most helpful, comments should clearly describe specific environmental topics or issues which the commenter believes the document should address. Further information on the proposed action or the scoping meeting may be obtained from Cindy S. Barger, Project Manager, at (see ADDRESSES). The DEIS should be available for public review in early 2010, subject to the receipt of federal funding.

Brenda S. Bowen,
Army Federal Register Liaison Officer.

[FR Doc. E8-23221 Filed 10-1-08; 8:45 am]

BILLING CODE 3710-NN-P